DEPARTMENT OF EDUCATION

Notice of Proposed Information Collection Requests

AGENCY: Department of Education.

SUMMARY: The Department requests a one-year extension of the deadline established by OMB for the 2008-2009 Free Application for Federal Student Aid (FAFSA). OMB established the current deadline, June 30, 2008, following the approval of an Emergency Clearance of the 2008-2009 FAFSA. (For chronology of events, see below). This request does not include any changes to the functionality or format of the 2008-2009 FAFSA. The public is welcome to comment on this request, but it should be noted that the 2008-2009 FAFSA is currently approved and NO CHANGES are proposed herein. Subsequent to the approval of this “Extension of a Currently Approval Collection”, the Department will issue a full collection clearance package for the 2009-2010 FAFSA. Unlike this request, the Department anticipates that the 2009-2010 FAFSA will include substantive changes and the public is encouraged to read and comment, as desired, on that package when it is issued in the summer of 2008.

FAFSA Clearance Chronology

(1) Change Worksheet:

Reason for Submission: No material change was anticipated for the 2008-2009 FAFSA at the time of filing.

Request for “No Material or Nonsubstantive Change to a Currently Approved Collection”—6/22/07.

OMB Approval: 7/06/07.

Expiration date established by OMB: 9/30/09.

(2) Emergency Clearance:

Reason for Submission: Addition of TEACH grant question to the 2008-2009 FAFSA on the Web.

Request for “Revision of a Currently Approved Collection”—12/20/07

OMB Approval: 12/27/07.

Expiration date established by OMB: 6/30/08.

Because the Emergency Clearance expires on 6/30/08, the Department is submitting a full clearance packet for the 2008-2009 FAFSA to OMB and requesting an extension of approval through 6/30/09.

(3) Extension of a Currently Approved Collection:

Reason for Submission: The Emergency Clearance expires in six months.

Request for “Regular Review.”

OMB Approval: TBD.

Expiration date established by OMB: TBD.

The Secretary of Education requests comments on the Free Application for Federal Student Aid (FAFSA) that the Secretary proposes to use for the 2008-2009 award year. The FAFSA is completed by students and their families and the information submitted on the form is used to determine the students' eligibility and financial need for financial aid under the student financial assistance programs authorized under Title IV of the Higher Education Act of 1965, as amended (Title IV, HEA Programs).

DATES: Interested persons are invited to submit comments on or before May 12, 2008.

ADDRESSES: Comments may be submitted electronically through e-mail to FAFSA_Comments@ed.gov. Requests for copies of the proposed information collection requests may be accessed from http://edicsweb.ed.gov by selecting the “Browse Pending Collections” link and by clicking on link number 3585. When you access the information collection, click on “Download Attachments” to view. Written requests for information should be addressed to U.S. Department of Education, 400 Maryland Avenue, SW., LBJ, Washington, DC 20202-4537. In addition, interested persons can access this document on the Internet:

(1) Go to IFAP at http://ifap.ed.gov.

(2) Scroll down to “Publications.”

(3) Click on “FAFSAs and Renewal FAFSAs.”

(4) Click on “By 2007-2008 Award Year.”

(5) Click on “Draft FAFSA Form/Instructions.”

Please note that the free Adobe Acrobat Reader software, version 4.0 or greater, is necessary to view this file. This software can be downloaded for free from Adobe's Web site: http://www.adobe.com.

FOR FURTHER INFORMATION CONTACT: Individuals who use a telecommunications device for the deaf (TDD) may call the Federal Information Relay Service (FIRS) at 1-800-877-8339 between 8 a.m. and 8 p.m. Eastern time, Monday through Friday.

SUPPLEMENTARY INFORMATION: The Secretary is publishing this request for comment under the Provisions of the Paperwork Reduction Act of 1995, 44 U.S.C. 3501 et seq. Under that Act, ED must obtain the review and approval of the Office of Management and Budget (OMB) before it may use a form to collect information. However, under procedure for obtaining approval from OMB, ED must first obtain public comment of the proposed form, and to obtain that comment, ED must publish this notice in the Federal Register.

In addition to comments requested above, to accommodate the requirements of the Paperwork Reduction Act, the Secretary is interested in receiving comments with regard to the following matters: (1) Is this collection necessary to the proper functions of the Department, (2) will this information be processed and used in a timely manner, (3) is the estimate of burden accurate, (4) how might the Department enhance the quality, utility, and clarity of the information to be collected, and (5) how might the Department minimize the burden of this collection on the respondents, including through the use of information technology.

Dated: March 5, 2008.
Angela C. Arrington,
IC Clearance Official, Regulatory Information Management Services, Office of Management.

Federal Student Aid

Type of Review: Revision.

Title: Free Application for Federal Student Aid (FAFSA).

Frequency: Annually.

Affected Public: Individuals.

Annual Reporting and Recordkeeping Hour Burden:

Responses: 16,787,640.

Burden Hours: 8,054,467.

Abstract: Section 483 of the Higher Education Act of 1965, as amended (HEA), requires the Secretary, “in cooperation with agencies and organizations involved in providing student financial assistance,” to “produce, distribute and process free of charge a common financial reporting form to be used to determine the need and eligibility of a student for financial assistance...” under the title IV, HEA Programs. This form is the FAFSA. In addition, section 483 authorizes the Secretary to include non-financial data items that assist States in awarding State student financial assistance.

Requests for copies of the proposed information collection request may be accessed from http://edicsweb.ed.gov, by selecting the “Browse Pending Collections” link and by clicking on link number 3585. Written requests for information should be addressed to U.S. Department of Education, 400 Maryland Avenue, SW., LBJ, Washington, DC 20202-4537. Requests may also be electronically mailed to ICDocketMgr@ed.gov or faxed to (202) 245-6623. Please specify the complete title of the information collection when making your request. Comments regarding burden and/or the collection activity requirements should be directed to the e-mail address ICDocketMgr@ed.gov. Individuals who use a telecommunications device for the deaf (TDD) may call the Federal Information Relay Service (FIRS) at 1-800-877-8339 between 8 a.m. and 8 p.m., Eastern time, Monday through Friday.

[FR Doc. E8-4778 Filed 3-10-08; 8:45 am]

BILLING CODE 4000-01-P